ENVIRONMENTAL PROTECTION AGENCY

40 CFR Part 52

[EPA-R08-OAR-2006-0013; FRL-9097-7]

Approval and Promulgation of Air Quality Implementation Plans; Utah; Redesignation Request and Maintenance Plan for Salt Lake County; Utah County; Ogden City PM10 Nonattainment Area

AGENCY: Environmental Protection Agency (EPA).

ACTION: Proposed rule; extension of the comment period.

SUMMARY: EPA is extending the comment period for a document published on December 1, 2009 (74 FR 62717). In the December 1, 2009 document, EPA proposed to disapprove the State of Utah's requests under the Clean Air Act to redesignate the Salt Lake County, Utah County, and Ogden City PM10 nonattainment areas to attainment, and to approve some and disapprove other associated State Implementation Plan (SIP) revisions. The Governor of Utah submitted the redesignation requests and associated SIP revisions on September 2, 2005. EPA proposed to disapprove the redesignation requests because the areas do not meet all Clean Air Act requirements for redesignation. At the request of several commentors, EPA is extending the comment period through March 1, 2010.

DATES: Comments must be received on or before March 1, 2010.

ADDRESSES: Submit your comments, identified by Docket ID No. EPA-R08-OAR-2006-0013, by one of the following methods:

• www.regulations.gov. Follow the on-line instructions for submitting comments.

• E-mail: videtich.callie@epa.gov

• Fax: (303) 312-6064 (please alert the individual listed in FOR FURTHER INFORMATION CONTACT if you are faxing comments).

• Mail: Callie Videtich, Director, Air Program, Environmental Protection Agency (EPA), Region 8, Mailcode 8P-AR, 1595 Wynkoop St., Denver, Colorado 80202-1129.

• Hand Delivery: Callie Videtich, Director, Air Program, Environmental Protection Agency (EPA), Region 8, Mail Code 8P-AR, 1595 Wynkoop St., Denver, Colorado 80202-1129. Such deliveries are only accepted Monday through Friday, 8 a.m. to 4:30 p.m., excluding Federal holidays. Special arrangements should be made for deliveries of boxed information.

• For additional information on submitting comments, see the December 1, 2009 (74 FR 62717) notice.

FOR FURTHER INFORMATION CONTACT: Catherine Roberts, Air Program, Mail Code 8P-AR, Environmental Protection Agency (EPA), Region 8, 1595 Wynkoop St., Denver, Colorado 80202-1129, (303) 312-6025, roberts.catherine@epa.gov.

Dated: December 18, 2009.
Carol Rushin,
Acting Regional Administrator, Region 8.

[FR Doc. E9-30993 Filed 12-29-09; 8:45 am]

BILLING CODE 6560-50-P